DEPARTMENT OF THE INTERIOR

Bureau of Land Management

[LLNV952000-09-L14200000-BJ0000; 09-08807; TAS: 14X1109]

Filing of Plats of Survey; Nevada

AGENCY: Bureau of Land Management.

ACTION: Notice.

SUMMARY: The purpose of this notice is to inform the public and interested State and local government officials of the filing of Plats of Survey in Nevada.

DATES: Effective Dates: Filing is effective at 10 a.m. on the dates indicated below.

FOR FURTHER INFORMATION CONTACT: David D. Morlan, Chief, Branch of Geographic Sciences, Bureau of Land Management (BLM), Nevada State Office, 1340 Financial Blvd., P.O. Box 12000, Reno, NV 89520, 775-861-6541.

SUPPLEMENTARY INFORMATION: 1. The Plats of Survey of the following described lands were officially filed at the Nevada State Office, Reno, Nevada, on April 16, 2009:

The supplemental plat, showing amended lottings in section 1, Township 24 South, Range 60 East, Mount Diablo Meridian, Nevada, was accepted April 14, 2009.

This supplemental plat was prepared to meet certain administrative needs of the Bureau of Land Management.

The plat representing the dependent resurvey of a portion of the subdivisional lines, the further subdivision of section 8 and a metes-and-bounds survey of a portion of the centerline of Las Vegas Boulevard in section 8, Township 23 South, Range 61 East, Mount Diablo Meridian, Nevada, under Group No. 859, was accepted April 14, 2009.

This survey was executed to meet certain administrative needs of the Bureau of Land Management.

The plat representing the dependent resurvey of a portion of the subdivisional lines and a metes-and-bounds survey of a portion of the centerline of U.S. Highway No. 93, Township 11 South, Range 63 East, Mount Diablo Meridian, Nevada, under Group No. 863, was accepted April 14, 2009.

This survey was executed to meet certain administrative needs of the Bureau of Land Management and Coyote Springs Investment, L.L.C.

2. The Plats of Survey of the following described lands were officially filed at the Nevada State Office, Reno, Nevada, on May 7, 2009:

The plat, in two sheets, representing the dependent resurvey of a portion of the south boundary and a portion of the subdivisional lines, and the subdivision of sections 31 and 32, Township 21 South, Range 59 East, Mount Diablo Meridian, Nevada, under Group No. 752, was accepted May 6, 2009.

The plat, in three sheets, representing the dependent resurvey of a portion of the subdivisional lines and a portion of the subdivision-of-section lines of section 17, the subdivision of sections 4, 5, 7 and 8, and the further subdivision of section 17, Township 22 South, Range 59 East, Mount Diablo Meridian, Nevada, under Group No. 752, was accepted May 6, 2009.

These surveys were executed to meet certain administrative needs of the Bureau of Land Management.

3. The Plat of Survey of the following described lands was officially filed at the Nevada State Office, Reno, Nevada, on May 21, 2009:

The plat representing the dependent resurvey of a portion of the subdivisional lines and a metes-and-bounds survey in section 19, Township 1 South, Range 68 East, Mount Diablo Meridian, Nevada, under Group No. 866, was accepted May 19, 2009.

This survey was executed to meet certain administrative needs of the Bureau of Land Management and the State of Nevada.

4. The above-listed surveys are now the basic record for describing the lands for all authorized purposes. These surveys have been placed in the open files in the BLM Nevada State Office and are available to the public as a matter of information. Copies of the surveys and related field notes may be furnished to the public upon payment of the appropriate fees.

Dated: July 13, 2009.
David D. Morlan,
Chief Cadastral Surveyor, Nevada.

[FR Doc. E9-18021 Filed 7-28-09; 8:45 am]

BILLING CODE 4310-HC-P